DEPARTMENT OF COMMERCE

National Oceanic and Atmospheric Administration

RIN 0648-XA224

Advisory Committee to the U.S. Section to the International Commission for the Conservation of Atlantic Tunas (ICCAT); Spring Species Working Group Meeting

AGENCY: National Marine Fisheries Service (NMFS), National Oceanic and Atmospheric Administration (NOAA), Commerce.

ACTION: Notice of Advisory Committee meeting.

SUMMARY: The Advisory Committee (Committee) to the U.S. Section to the International Commission for the Conservation of Atlantic Tunas (ICCAT) announces its spring meeting with its Species Working Group Technical Advisors on March 7-9, 2011. The Committee will meet to discuss matters relating to ICCAT, including the 2010 Commission meeting results; research and management activities; global and domestic initiatives related to ICCAT; the Atlantic Tunas Convention Act-required consultation on the identification of countries that are diminishing the effectiveness of ICCAT; the results of the meetings of the Committee's Species Working Groups; and other matters relating to the international management of ICCAT species.

DATES: The open sessions of the Committee meeting will be held on March 7, 2011, 6 p.m. to 7 p.m.; March 8, 2011, 8:30 a.m. to 3 p.m.; and March 9, 2011, 9 a.m. to 1:15 p.m. Closed sessions will be held on March 8, 2011, 3:15 p.m. to 6 p.m., and on March 9, 2011, 8 a.m. to 9 a.m.

ADDRESSES: The meeting will be held at the Crowne Plaza, 8777 Georgia Avenue, Silver Spring, MD 20910. The phone number is (301) 589-0800.

FOR FURTHER INFORMATION CONTACT: Rachel O'Malley at (301) 713-9505.

SUPPLEMENTARY INFORMATION: The Advisory Committee to the U.S. Section to ICCAT will meet in open session to receive and discuss information on the 2010 ICCAT meeting results and U.S. implementation of ICCAT decisions; NMFS research and monitoring activities; 2010 ICCAT activities; global and domestic initiatives related to ICCAT; the Atlantic Tunas Convention Act-required consultation on the identification of countries that are diminishing the effectiveness of ICCAT; the results of the meetings of the Committee's Species Working Groups; and other matters relating to the international management of ICCAT species. The public will have access to the open sessions of the meeting, but there will be no opportunity for public comment.

The Committee will meet in its Species Working Groups for a portion of the afternoon of March 8, 2011, and for one hour on the morning of March 9, 2011. These sessions are not open to the public, but the results of the species working group discussions will be reported to the full Advisory Committee during the Committee's open session on March 9, 2011.

Special Accommodations

The meeting location is physically accessible to people with disabilities. Requests for sign language interpretation or other auxiliary aids should be directed to Rachel O'Malley at (301) 713-9505 at least 5 days prior to the meeting date.

Dated: February 15, 2011.
Rebecca J. Lent,
Director, Office of International Affairs, National Marine Fisheries Service.

[FR Doc. 2011-3737 Filed 2-17-11; 8:45 am]

BILLING CODE 3510-22-P